DEPARTMENT OF ENERGY

Federal Energy Regulatory Commission

[Docket No. RP03-345-000]

Viking Gas Transmission Company; Notice of Tariff Filing

April 22, 2003.

Take notice that on April 17, 2003, Viking Gas Transmission Company (Viking) tendered for filing as part of its FERC Gas Tariff, First Revised Volume No. 1, Third Revised Sheet No. 86A to be effective June 1, 2003, and First Revised Sheet No. 87H to be effective April 1, 2003.

Viking states that the purpose of this filing is to bring Viking's tariff into conformance with the Commission's policies set forth in the October 31, 2002, Order on Remand, 101 FERC ¶ 61,127, issued in Docket No. RM98-10-011. Viking states that it is revising Sheet No. 87H to clarify that Viking's tariff complies with the Commission's Order on Remand policy governing forward hauls and backhauls to the same point.

Viking requests waiver of notice so that proposed Sheet No. 87H will go into effect coincident with Viking's other Order No. 637 segmentation tariff sheets as provided by the Commission's March 26, 2003 Letter Order in Docket Nos. RP00-497-002 and RP01-47-004. Viking states that it is also filing to revise Sheet No. 86A to eliminate the five-year term matching cap for rights-of-first-refusal consistent with the Commission's Order on Remand policy.

Viking states that copies of the filing have been mailed to all of its jurisdictional customers and to affected state regulatory commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 29, 2003.

Magalie R. Salas,
Secretary.

[FR Doc. 03-10472 Filed 4-28-03; 8:45 am]

BILLING CODE 6717-01-P